ENVIRONMENTAL PROTECTION AGENCY

[OPP-2005-0037; FRL-7698-7]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period October 1, 2004 to Decmeber 31, 2004 to control unforseen pest outbreaks.

FOR FURTHER INFORMATION CONTACT: See each emergency exemption or denial for the name of a contact person. The following information applies to all contact persons: Team Leader, Emergency Response Team, Registration Division (7505C), Office of Pesticide Programs, Environmental Protection Agency, 1200 Pennsylvania Ave., NW., Washington, DC 20460-0001; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you are an agricultural producer, food manufacturer, or pesticide manufacturer. Potentially affected entities may include, but are not limited to:

• Crop production (NAICS code 111)

• Animal production (NAICS code 112)

• Food manufacturing (NAICS code 311)

• Pesticide manufacturing (NAICS code 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket identification number OPP-2005-0037. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

California

Environmental Protection Agency, Department of Pesticide Regulation

Specific:

EPA authorized the use of thiophanate methyl in mushroom cultivation to control green mold; October 28, 2004 to October 27, 2005. Contact: (Andrea Conrath)

EPA authorized the use of pyriproxyfen on strawberry to control silverleaf whiteflly; December 13, 2004 to December 12, 2005. Contact: (Andrea Conrath)

Colorado

Department of Agriculture

Specific: EPA authorized the use of the formulated product ApiLife VAR containing thymol, eucalyptus oil, and L-menthol in beehives to control varroa mites; December 3, 2004 to December 1, 2005. Contact: (Barbara Madden)

Florida

Department of Agriculture and Consumer Services

Specific: EPA authorized the use of coumaphos in beehives to control varroa mites and small hive beetles; January 19, 2005 to January 18,2006. Contact: (Barbara Madden)

EPA authorized the use of the formulated product ApiLife VAR containing thymol, eucalyptus oil, and L-menthol in beehives to control varroa mites; December 29, 2004 to December 1, 2005. Contact: (Barbara Madden)

Georgia

Department of Agriculture

Specific: EPA authorized the use of indoxacarb on collards to control diamondback moth; November 4, 2004 to November 3, 2005. Contact: (Andrea Conrath)

EPA authorized the use of fenbuconazole on blueberries to control mummyberry disease; November 18, 2004 to July 1, 2005. Contact: (Andrea Conrath)

Idaho

Department of Agriculture

Specific: EPA authorized the use of flufenacet on wheat to control Italian ryegrass; October 20, 2004 to December 31, 2004. Contact: (Andrew Ertman)

Kentucky

Department of Agriculture

Specific: EPA authorized the use of the formulated product ApiLife VAR containing thymol, eucalyptus oil, and L-menthol in beehives to control varroa mites; December 3, 2004 to December 1, 2005. Contact: (Barbara Madden)

Minnesota

Department of Agriculture

Quarantine: EPA authorized the use of trifloxystrobin on soybeans to control soybean rust; December 13, 2004, to December 1, 2007. Contact: (Andrew Ertman)

New York

Department of Environmental Conservation

Specific: EPA authorized the use of the formulated product ApiLife VAR containing thymol, eucalyptus oil, and L-menthol in beehives to control varroa mites; December 29, 2004 to December 1, 2005. Contact: (Barbara Madden)

North Carolina

Specific: EPA authorized the use of the formulated product ApiLife VAR containing thymol, eucalyptus oil, and L-menthol in beehives to control varroa mites; December 29, 2004 to December 1, 2005. Contact: (Barbara Madden)

Ohio

Quarantine: EPA authorized the use of myclobutanil on soybeans to control soybean rust; December 1, 2004, to March 1, 2007. Contact: (Andrew Ertman)

Oregon

Department of Agriculture

Specific: EPA authorized the use of thiophanate methyl in mushroom cultivation to control green mold; October 19, 2004 to October 18, 2005. Contact: (Andrea Conrath)

EPA authorized the use of flufenacet on wheat to control Italian ryegrass; October 20, 2004 to December 31, 2004. Contact: (Andrew Ertman)

South Carolina

Clemson University

Specific: EPA authorized the use of the formulated product ApiLife VAR containing thymol, eucalyptus oil, and L-menthol in beehives to control varroa mites; December 3, 2004 to December 1, 2005. Contact: (Barbara Madden)

South Dakota

Department of Agriculture

Quarantine: EPA authorized the use of trifloxystrobin on soybeans to control soybean rust; December 13, 2004, to December 1, 2007. Contact: (Andrew Ertman)

Texas

Department of Agriculture

Crisis: On December 21, 2004, for the use of triflumizole on parsley, dandelion, Swiss chard, collards, kale, kohlrabi, mustard greens, napa cabbage, and cilantro to control powdery mildew. This program is expected to end on October 1, 2005. Contact: (Libby Pemberton)

Specific: EPA authorized the use of fenbuconazole on grapefruit to control greasy spot disease; November 5, 2004 to November 4, 2005. Contact: (Andrea Conrath)

EPA authorized the use of the formulated product ApiLife VAR containing thymol, eucalyptus oil, and L-menthol in beehives to control varroa mites; December 3, 2004 to December 1, 2005. Contact: (Barbara Madden)

Virginia

Department of Agriculture and Consumer Services

Quarantine: EPA authorized the use of myclobutanil on soybeans to control soybean rust; November 15, 2004, to March 1, 2007. Contact: (Andrew Ertman)

EPA authorized the use of propiconazole on soybeans to control soybean rust; November 15, 2004, to March 1, 2007. Contact: (Andrew Ertman)

EPA authorized the use of tebuconazole on soybeans to control soybean rust; November 15, 2004, to March 1, 2007. Contact: (Andrew Ertman)

B. Federal Departments and Agencies

Agriculture Department

Animal and Plant Health Inspector Service

Quarantine: EPA authorized the use of carbaryl on imported flightless birds to control exotic ectoparasites; November 15, 2004, to November 15, 2007. Contact: (Andrew Ertman)

List of Subjects

Environmental protection, Pesticides and pest.

Dated: February 9, 2005.
Lois Rossi,
Director, Registration Division, Office of Pesticide Programs.

[FR Doc. 05-3446 Filed 2-22-05; 8:45 am]

BILLING CODE 6560-50-S